DEPARTMENT OF THE INTERIOR

Bureau of Safety and Environmental Enforcement

[Docket ID: BSEE-2018-0017; 190E1700D2 ET1SF0000.PSB000 EEEE500000]

Oil and Gas and Sulfur Operations in the Outer Continental Shelf—Request for Information Regarding Potential Impacts of Decommissioning-in-Place of Pipeline-Related Infrastructure in Deepwater

AGENCY: Bureau of Safety and Environmental Enforcement, Interior.

ACTION: Notice of Request for Information.

SUMMARY: The Bureau of Safety and Environmental Enforcement (BSEE) is soliciting information and public comments regarding potential impacts (including impacts on future use of the Outer Continental Shelf (OCS)) related to decommissioning-in-place (DIP) of certain pipeline-related infrastructure in deepwater (i.e., depths of at least 600 feet) on the OCS. Responses to this Request for Information (RFI) will help identify technical, safety and environmental factors, as well as potential impacts to other uses of the OCS, that will inform BSEE's consideration of requests to allow DIP of such pipeline-related infrastructure in deepwater in lieu of decommissioning by removal. BSEE intends to make any written comments or other information submitted in response to this RFI publicly available on www.regulations.gov.

DATES: Written comments and other information in response to this RFI must be submitted on or before February 26, 2019.

ADDRESSES: You may submit comments and other information in response to this RFI by the following methods. Please use docket number BSEE-2018-0017 as an identifier in your message.

○ Federal eRulemaking Portal: http://www.regulations.gov. In the entry entitled, “Enter Keyword or ID,” enter BSEE-2018-0017 then click search. Follow the instructions to submit public comments and view supporting and related materials available for this rulemaking. BSEE may post all submitted comments.

○ Mail or hand-carry comments or other information to the Department of the Interior; Bureau of Safety and Environmental Enforcement; Attention: Regulations Development Section, 45600 Woodland Road, Sterling, Virginia 20166. Please reference “Request for Information Regarding Potential Impacts of Decommissioning-in-place of Pipeline-related Infrastructure in Deepwater, BSEE-2018-0017” in your submission and include your name and return address.

• Before including your address, phone number, email address, or other personal identifying information in your response, you should be aware that your entire response—including your personal identifying information—may be made publicly available at any time. While you can ask us to withhold your personal identifying information from public view, we cannot guarantee that we will be able to do so. If you want BSEE to withhold from disclosure your personal identifying information, you must identify the information that, if released, would constitute a clearly unwarranted invasion of your personal privacy. You must also briefly describe any possible harmful consequence(s) of the disclosure of such information.

FOR FURTHER INFORMATION CONTACT: Lakeisha Harrison, Chief, Regulations and Standards Branch, at (703) 787-1552 or by email: regs@bsee.gov.

SUPPLEMENTARY INFORMATION:

I. Background

In accordance with the Outer Continental Shelf Lands Act (OCSLA), 43 U.S.C. 1331 et seq. and its implementing regulations (30 CFR part 250), BSEE is responsible for regulating many activities on the OCS in order to ensure the orderly and expeditious development of oil and natural gas resources in a safe and environmentally responsible manner. Among other responsibilities, BSEE enforces regulations for decommissioning of pipelines and related infrastructure on the OCS seabed, as well as regulations for decommissioning of wells, platforms and other facilities. (See 30 CFR part 250, subpart Q (§§ 250.1700—250.1754).)

The Subpart Q regulations require that an operator decommission and remove pipelines, wells, platforms and other facilities when they are no longer useful for operations. (See 30 CFR 250.1703.) The operator must conduct these decommissioning activities in a manner that is “safe, does not unreasonably interfere with other uses of the OCS, and does not cause undue or serious harm or damage to the human, marine or coastal environment.” (Id. § 250.1703(g).) Among other things, the decommissioning regulations require the removal of all “facilities.” (See, e.g., id. §§ 250.1703(c), 250.1725.) Section 250.1700(c) defines “facility” to include pipeline risers and any other equipment (e.g., umbilicals) that constitute an obstruction.

The Subpart Q decommissioning regulations also require lessees, owners of operating rights, and holders of rights-of-way to clear from the seafloor all “obstructions” created by a lease or pipeline right-of-way operations. (See id. § 250.1703(e).) ¹ Section 250.1700(b) defines “obstructions” as including “structures, equipment or objects” (e.g., umbilicals, pipelines, and pipeline valves and risers) that, “if left in place, would hinder other users of the OCS.” Other uses of the OCS may include, but are not limited to, future oil and gas operations, U.S. military activities, renewable energy activities, transportation and communication projects, commercial and recreational fishing, and possibly other recreational uses.

¹ The clearance of obstructions must be verified by means specified in the regulations or approved by BSEE and the verified clearance must then be certified in writing to BSEE. (See 30 CFR 250.1740—250.1743)).

Pursuant to § 250.1750, however, a pipeline may be decommissioned-in-place (i.e., without removal), provided that the Regional Supervisor determines (upon application) that leaving the pipeline in place would “not constitute a hazard (obstruction) to navigation and commercial fishing operations, unduly interfere with other uses of the OCS, or have adverse environmental effects.” Section 250.1751 then specifies the process for applying for BSEE's approval to decommission a pipeline in place and the requirements for decommissioning in place (DIP). Consistent with this process, § 250.1751(g) requires the removal of “pipeline valves and other fittings that could unduly interfere with other uses of the OCS.” Thus, § 250.1751(g) permits DIP of pipeline valves and other fittings that do not “unduly interfere” with other uses of the OCS.

In addition, BSEE has broad authority under 30 CFR 250.142 to grant departures from the operating requirements of its regulations, under appropriate circumstances, upon written request to the District Manager or the Regional Supervisor. Such departure requests may include requests to the Regional Supervisor to decommission-in-place certain pipeline-related infrastructure beyond pipeline valves and other fittings. Pipeline-related infrastructure includes umbilicals, subsea production manifolds, pipeline end terminations (PLETs), pipeline end manifolds (PLEMs), subsea umbilical termination assemblies, pumps, and electrical or hydraulic flying leads.²

² A PLEM is generally used to connect multiple pipelines; often serving as a tieback point for jumpers coming from subsea wells. Depending upon sediment conditions, some PLEMs are fastened to the seabed with piles or secured atop suction pile anchors to maintain position. A PLET is usually associated with a single line, providing a connection point to a PLEM, another pipeline/jumper, or a riser assembly coming up to a platform. Most PLETs are fixed atop sleds or other gravity-based foundations.

Deepwater developments, in particular, often involve extensive networks of pipeline-related infrastructure including, but not limited to, umbilicals, subsea production manifolds, PLETs, and PLEMs. Of the approximately 80 deepwater developments in the Gulf of Mexico, some are at—or are nearing—the end of their service lives. BSEE has received an increasing number of applications to allow DIP of certain pipeline-related infrastructure in such deepwater operations. Currently, BSEE's Gulf of Mexico Region has at least 10 such requests now pending, some of which include more than one piece of pipeline-related infrastructure. In general, such requests assert that, although technically feasible, removal is either unnecessary or less safe than DIP, on the grounds that leaving the pipeline-related infrastructure in place would not pose safety or environmental hazards or obstruct the OCS by hindering other uses.

Although BSEE does not anticipate any changes to its longstanding policies for the approval of requests to decommission pipelines (i.e., the line pipe) in place pursuant to § 250.1751, BSEE is considering whether—and under what circumstances—DIP of pipeline valves and fittings and other pipeline-related infrastructure in deepwater could be considered appropriate. In particular, to determine whether it is appropriate for pipeline valves and fittings to be decommissioned-in-place in accordance with § 250.1751(g), BSEE must assess whether the valves and fittings would unduly interfere with other uses of the OCS. Similarly, to determine whether it is appropriate to grant departure requests to allow DIP of other pipeline-related infrastructure in deepwater pursuant to § 250.142, BSEE must assess whether the pipeline-related infrastructure would constitute a hazard (obstruction) or otherwise unduly interfere with other uses of the OCS, or would have adverse safety or environmental consequences if left in place.

BSEE is also identifying technical considerations that may be relevant to BSEE's determinations as to whether it would be appropriate to approve requests to allow DIP of pipeline valves and fittings (pursuant to § 250.1751(g)) and other pipeline-related infrastructure (pursuant to § 250.142) in deepwater. For instance, BSEE has determined that water depth is an important technical factor in making such determinations; i.e., the greater the water depth, the less chance that DIP of pipeline valves and fittings or other pipeline-related infrastructure would cause obstructions or interfere with present or future uses of the OCS. Accordingly, BSEE is considering whether to apply a tiered approach to consideration of requests to approve DIP in deepwater based on water depth (e.g., in depths from 600 feet/182 meters) to 2625 feet/800 meters) and in depths greater than 2625 feet), with justifications for approvals being potentially less stringent in the greatest depths (i.e., where obstructions to navigation or commercial fishing or other activities are significantly less likely to occur than at shallower depths).³

³ BSEE does not contemplate approving applications under § 250.1751(g) for DIP of pipeline valves and fittings, or approving departures under § 250.142 for DIP of pipeline-related infrastructure, except in deepwater. BSEE believes that 600 feet/182 meters is an appropriate starting point for consideration of requests to allow DIP of pipeline-related infrastructure because 600 feet is below the depths at which trawling equipment for commercial fishing can typically reach. BSEE also believes that 2625 feet/800 meters) is an appropriate depth at which to consider potentially less stringent requirements for deepwater DIP because that is the depth specified in § 250.1716 at which BSEE may waive the requirement for removal of wellheads. By contrast, given the potential for obstructions or other interference with uses of the OCS in depths of less than 600 feet, BSEE continues to expect that all pipeline-related infrastructure in such shallower water will be removed, and that obstructions will be cleared, as presumptively required by the Subpart Q regulations.

However, many variables and site-specific factors—in addition to water depth—can affect whether DIP is appropriate in a given case. For example, the size and location of pipeline-related infrastructure may also be important technical considerations. Some pipeline-related infrastructure is extremely large (e.g., subsea manifolds may occupy up to about 72,000 cubic feet and reach heights of up to 35 feet), potentially increasing the possibility of obstacles or other interference with use of the OCS. In some cases, especially for very large projects, it is possible that certain pipeline-related infrastructure may abut or cross multiple lease sections. Leaving such equipment in place, even in deepwater, potentially could create obstacles or otherwise interfere with use of the OCS (e.g., by inhibiting bidding on these tracts at future lease sales or discouraging exploration, development, or production under other leases or by interfering with potential future renewable energy activities).

Thus, the issues related to DIP of pipeline valves and fittings and other pipeline-related infrastructure in deepwater are potentially complex, especially in light of the size and scope of some projects. Accordingly, BSEE invites the public to submit relevant information and comments on such issues in order to help BSEE establish a consistent and reasonable approach to consideration of requests to allow DIP of pipeline valves and fittings and other pipeline-related infrastructure in deepwater.

II. Request for Information

BSEE would appreciate your views, and any relevant technical information you can provide, on whether and under what circumstances it would be appropriate for BSEE to approve DIP of pipeline valves and fittings (pursuant to § 250.1751(g)) and of other pipeline-related infrastructure (pursuant to § 250.142) in deepwater. Among other issues, BSEE would appreciate comments and information related to whether DIP of pipeline valves and fittings or other pipeline-related infrastructure in deepwater: (1) Could increase (or decrease) safety or environmental risks as compared to decommissioning by removal; or (2) could interfere with navigation, create an obstruction, or otherwise unduly interfere with present or future uses of the OCS.

Please be as specific as possible in expressing your views and in the other information you provide. For example, please consider how your views or information could vary depending on specific circumstances, such as the water depth at which decommissioning takes place. Wherever possible, please provide relevant factual support for your views.

Scott A. Angelle,
Director, Bureau of Safety and Environmental Enforcement.

[FR Doc. 2018-28304 Filed 12-27-18; 8:45 am]

BILLING CODE 4310-VH-P